DEPARTMENT OF THE INTERIOR

Bureau of Indian Affairs

Notice of Intent To Prepare an Environmental Impact Statement for the Proposed Reconstruction of BIA Route 27 on the Pine Ridge Indian Reservation, SD

AGENCY: Bureau of Indian Affairs, Interior.

ACTION: Notice.

SUMMARY: This notice advises the public that the Bureau of Indian Affairs (BIA) as lead agency, with the cooperation of the Oglala Sioux Tribe (Tribe), intends to gather the information necessary to prepare an Environmental Impact Statement (EIS) for the proposed reconstruction of BIA Route 27 near Wounded Knee, South Dakota. The BIA intends to coordinate the preparation of this EIS with consultations under the National Historic Preservation Act. The purpose of the proposed action is to improve the roadway to current safety standards. This notice also announces a public scoping meeting to identify potential issues, alternatives and content to be considered in the EIS.

DATES: Written comments on the scope and implementation of this proposal must arrive by September 26, 2005.

The public scoping meeting will be held Tuesday, September 13, 2005, from 6:30 p.m. to 8:30 p.m., or until the last public comment is received.

ADDRESSES: You may mail or hand carry written comments to Marilyn Bercier, Bureau of Indian Affairs, Great Plains Regional Office, 115 4th Avenue SE., Aberdeen, South Dakota 57401.

The public scoping meeting will be held in the gymnasium at the Wounded Knee District School, 1 Main Street, Manderson, South Dakota.

FOR FURTHER INFORMATION CONTACT: Marilyn Bercier, (605) 226-7645.

SUPPLEMENTARY INFORMATION: The BIA and the Tribe propose to reconstruct BIA Route 27 from a point 5.3 miles northeast of its intersection with BIA Rt. 28 and then about 7.5 miles south and east to its intersection with State Highway 18. BIA Route 27 is located on the Pine Ridge Indian Reservation in Townships 36, 37 & 38 North and Ranges 42 & 43 West in Shannon County, South Dakota.

The purpose of the proposed reconstruction is to meet current safety guidelines. The existing asphalt surface is distressed and deteriorating. Numerous safety deficiencies include steep side slopes, abrupt vertical and horizontal curvatures, narrow roadway surfaces, steep in-slopes and back-slopes, protruding pipes, improper sight distances and roadside obstructions (trees) within clear zones. The highway provides residential access and serves as a major connector route to and from the Pine Ridge Community, but currently poses severe safety hazards to the members of the Tribe and the general traveling public.

Areas of environmental concern so far identified for analysis in the EIS include socio-economics, transportation, groundwater and surface water, wildlife and habitat, cultural resources, aesthetics, land uses, health and safety, and threatened, endangered, or special-status species. The range of issues to be addressed may be expanded based on comments received during the scoping process.

Public Comment Availability

Comments, including names and addresses of respondents, will be available for public review at the mailing address shown in the ADDRESSES section during regular business hours, 7:45 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of Interior Manual (516 DM 1-6), and is in the exercise of authority delegated to the Principal Deputy Assistant Secretary—Indian Affairs by 209 DM 8.1.

Dated: August 8, 2005.
George T. Skibine,
Acting Principal Deputy Assistant Secretary—Indian Affairs.

[FR Doc. 05-16600 Filed 8-19-05; 8:45 am]

BILLING CODE 4310-W7-P